DEPARTMENT OF TRANSPORTATION

Maritime Administration

[Docket No. MARAD-2022-0037]

Inventory of U.S.-Flag Launch Barges; Invitation for Public Comments

AGENCY: Maritime Administration, DOT.

ACTION: Notice and request for comments.

SUMMARY: The Maritime Administration (MARAD) is performing its annual update of registered U.S.-flag launch barges. Any additions or changes to the current Register of U.S.-Flag Launch Barges published below in the Supplementary Information section should be submitted as comments to MARAD. MARAD's Launch Barge Program information page is located at https://www.maritime.dot.gov/ports/domestic-shipping/launch-barge-program.

DATES: Submit comments on or before March 16, 2022.

ADDRESSES: You may submit comments identified by DOT Docket Number MARAD-2022-0037 by any of the following methods:

• Website/Federal eRulemaking Portal: Go to http://www.regulations.gov. Search “MARAD-2022-0037” and follow the instructions for submitting comments on the electronic docket site.

• Mail or Hand Delivery: Docket Management Facility, U.S. Department of Transportation, 1200 New Jersey Avenue SE, West Building, Room W12-140, Washington, DC 20590, between 9 a.m. and 5 p.m., Monday through Friday, except on Federal holidays.

Note: All submissions must include the agency name and docket number for this notice. All comments received will be posted without change to http://www.regulations.gov including any personal information provided.

Docket: For access to the docket to read comments received, go to http://www.regulations.gov and search using “MARAD-2022-0037.”

FOR FURTHER INFORMATION CONTACT: Jennifer Meurer, U.S. Department of Transportation, Maritime Administration, 1200 New Jersey Avenue SE, Room W23-453, Washington, DC 20590. Email: Jennifer.Meurer@dot.gov.

SUPPLEMENTARY INFORMATION: Pursuant to 46 CFR part 389.3, in order to provide timely notification to interested parties and to maximize the use of coastwise-qualified vessels, MARAD is required to publish an annual notice requesting that existing or prospective owners or operators of U.S. registered launch barges notify the Agency of: (1) Their interest in participating in the transportation and, if needed, the launching or installation of offshore platform jackets; (2) the contact information for their company; and, (3) the specifications of any currently owned or operated coastwise-qualified launch barges or plans to construct such a vessel. Respondents should note whether the vessel has been issued a certificate of documentation with a coastwise endorsement.

The following is MARAD's current register of U.S.-flag launch barges:

Vessel name | Owner | Built | Length (ft.) | Beam (ft.) | DWT (L.T.) | Approx. launch capacity (L.T.) | Coastwise-qualified
455 4 | Crowley Marine Services | 2009 | 400 | 105 | 19,226 | 18,766 | X
455 5 | Crowley Marine Services | 2009 | 400 | 105 | 19,226 | 18,766 | X
455 6 | Crowley Marine Services | 2009 | 400 | 105 | 19,226 | 18,766 | X
455 7 | Crowley Marine Services | 2009 | 400 | 105 | 19,226 | 18,766 | X
455 8 | Crowley Marine Services | 2010 | 400 | 105 | 19,226 | 18,766 | X
455 9 | Crowley Marine Services | 2010 | 400 | 105 | 19,226 | 18,766 | X
Barge 400L | Crowley Marine Services | 1997 | 400 | 100 | 19,646 | 19,146 | X
Barge 410 | Crowley Marine Services | 1974 | 400 | 99.5 | 12,035 | 11,535 | X
Barge 455-3 | Crowley Marine Services | 2008 | 400 | 105 | 19,226 | 18,766 | X
Barge 500-1 | Crowley Marine Services | 1982 | 400 | 105 | 16,397 | 15,897 | X
Julie B | Crowley Marine Services | 2008 | 400 | 130 | 23,600 | 23,100 | X
Marty J | Crowley Marine Services | 2008 | 400 | 105 | 19,226 | 18,766 | X
MWB 403 | HMC Leasing, Inc | 1979 | 400 | 105 | 16,322 | 6,800 | X
INTERMAC 600 | J. Ray McDermott, Inc | 1973 | 500 | 120 | 32,290 | 15,600 |
McDermott Tidelands 020 | J. Ray McDermott, Inc | 1980 | 240 | 72 | 5,186 | 5,000 | X
McDermott Tidelands 021 | J. Ray McDermott, Inc | 1980 | 240 | 72 | 4,700 | 2,200 | X
McDermott Tidelands 021 | J. Ray McDermott, Inc | 1981 | 240 | 72 | 5,186 | 5,000 | X
McDermott Tidelands No. 012 | J. Ray McDermott, Inc | 1973 | 240 | 72.2 | 4,217 | 4,000 | X
McDermott Tidelands No. 014 | J. Ray McDermott, Inc | 1973 | 240 | 72.2 | 4,217 | 4,000 | X
MARMAC 11 | McDonough Marine Service | 1994 | 250 | 72 | 4,743 | 4,200 | X
MARMAC 12 | McDonough Marine Service | 1994 | 250 | 72 | 4,743 | 4,200 | X
MARMAC 15 | McDonough Marine Service | 1995 | 250 | 72 | 4,743 | 4,200 | X
MARMAC 16 | McDonough Marine Service | 1995 | 250 | 72 | 4,743 | 4,200 | X
MARMAC 17 | McDonough Marine Service | 1997 | 250 | 72 | 4,743 | 4,200 | X
MARMAC 18 | McDonough Marine Service | 1998 | 250 | 72 | 4,743 | 4,200 | X
MARMAC 19 | McDonough Marine Service | 1999 | 250 | 72 | 4,743 | 4,200 | X
MARMAC 20 | McDonough Marine Service | 1999 | 250 | 72 | 4,743 | 4,200 | X
MARMAC 21 | McDonough Marine Service | 2002 | 260 | 72 | 5,163 | 4,500 | X
MARMAC 22 | McDonough Marine Service | 2003 | 260 | 72 | 5,082 | 4,500 | X
MARMAC 23 | McDonough Marine Service | 2009 | 260 | 72 | 5,082 | 4,500 | X
MARMAC 24 | McDonough Marine Service | 2010 | 260 | 72 | 5,082 | 4,500 | X
MARMAC 25 | McDonough Marine Service | 2010 | 260 | 72 | 5,082 | 4,500 | X
MARMAC 300 | McDonough Marine Service | 1998 | 300 | 100 | 10,105 | 9,500 | X
MARMAC 301 | McDonough Marine Service | 1996 | 300 | 100 | 9,553 | 9,000 | X
MARMAC 3018 | McDonough Marine Service | 1996 | 318 | 95′-9″ | 10,046 | 9,500 |
MARMAC 400 | McDonough Marine Service | 2001 | 400 | 99′-9″ | 11,272 | 10,500 | X
MARMAC 9 | McDonough Marine Service | 1993 | 250 | 72 | 4,743 | 4,200 | X
COLUMBIA NORFOLK | Moran Towing | 1982 | 329′3½″ | 78 | 8,036 | 8,000 | X
FAITHFUL SERVANT | Puglia Engineering, Inc | 1979 | 492 | 131 | 23,174 | 23,000 |
ATLANTA BRIDGE | Trailer Bridge, Inc | 1998 | 402 | 100 | 6,017 | 6,017 | X
BROOKLYN BRIDGE | Trailer Bridge, Inc | 1998 | 402 | 100 | 6,017 | 6,017 | X
CHARLOTTE BRIDGE | Trailer Bridge, Inc | 1998 | 402 | 100 | 6,017 | 6,017 | X
CHICAGO BRIDGE | Trailer Bridge, Inc | 1998 | 402 | 100 | 6,017 | 6,017 | X
MEMPHIS BRIDGE | Trailer Bridge, Inc | 1998 | 402 | 100 | 6,017 | 6,017 | X

Privacy Act

In accordance with 5 U.S.C. 553(c), DOT/MARAD solicits comments from the public to better inform its rulemaking process. DOT/MARAD posts these comments, without edit, to www.regulations.gov, as described in the system of records notice, DOT/ALL-14 FDMS, accessible through www.dot.gov/privacy. In order to facilitate comment tracking and response, we encourage commenters to provide their name, or the name of their organization; however, submission of names is completely optional. Whether or not commenters identify themselves, all timely comments will be fully considered. If you wish to provide comments containing proprietary or confidential information, please contact the agency for alternate submission instructions.

(Authority: 46 U.S.C. 55108, 46 CFR 389)

* * * * *

By Order of the Acting Maritime Administrator.
T. Mitchell Hudson, Jr.,
Secretary, Maritime Administration.

[FR Doc. 2022-03106 Filed 2-11-22; 8:45 am]

BILLING CODE 4910-81-P